DEPARTMENT OF THE INTERIOR

Bureau of Land Management

[OR-957-00-1420-BJ: GP06-0071]

Filing of Plats of Survey: Oregon/Washington

AGENCY: Bureau of Land Management.

ACTION: Notice.

SUMMARY: The plat of survey of the following described lands was officially filed in the Oregon State office, Portland, Oregon, on August 23, 2005.

Willamette Meridian

Oregon

T. 35 S., R. 32 E., accepted August 16, 2005.

The plats of survey of the following described lands were officially filed in the Oregon State Office, Portland, Oregon, on October 18, 2005.

Willamette Meridian

Oregon

T. 27 S., R. 12 W., accepted September 2, 2005.

T. 26 S., R. 10 W., accepted September 2, 2005.

T. 9 S., R. 7 W., accepted September 2, 2005.

T. 25 S., R. 13 W., accepted September 2, 2005.

T. 34 S., R. 14 W., accepted September 2, 2005.

Willamette Meridian

Washington

T. 29 N., R. 38 E., accepted September 2, 2005.

T. 23 N., R. 10 W., accepted September 2, 2005.

T. 22 N., R. 11 W., accepted September 2, 2005.

The plats of survey of the following described lands were officially filed in the Oregon State Office, Portland, Oregon, on October 21, 2005.

Willamette Meridian

Oregon

T. 27 S., R. 9 W., accepted September 27, 2005.

Willamette Meridian

Washington

T. 12 N., R. 24 E., accepted September 29, 2005.

T. 10 N., R. 27 E., accepted September 29, 2005.

T. 10 N., R. 26 E., accepted September 29, 2005.

T. 11 N., R. 26 E., accepted September 29, 2005.

T. 11 N., R. 25 E., accepted September 29, 2005.

T. 11 N., R. 24 E., accepted September 29, 2005.

T. 13 N., R. 24 E., accepted September 29, 2005.

The plats of survey of the following described lands were officially filed in the Oregon State Office, Portland, Oregon, on January 13, 2006.

Willamette Meridian

Oregon

T. 3 N., R. 3 W., accepted September 30, 2005.

T. 10 S., R. 1 E., accepted September 30, 2005.

T. 7 S., R. 3 E., accepted September 30, 2005.

T. 8 S., R. 7 W., accepted September 30, 2005.

Willamette Meridian

Washington

T. 30 N., R. 31 E., accepted October 28, 2005.

T. 30 N., R. 30 E., accepted October 28, 2005.

T. 31 N., R. 30 E., accepted October 28, 2005.

T. 9 N., R. 10 W., accepted November 10, 2005.

A copy of the plats may be obtained from the Public Room at the Oregon State Office, Bureau of Land Management, 333 SW., 1st Avenue, Portland, Oregon 97204, upon required payment. A person or party who wishes to protest against a survey must file a notice that they wish to protest. (at the above address) with the State Director, Bureau of Land Management, Portland, Oregon.

For further information contact: Chief, Branch of Geographic Sciences, Bureau of Land Management, (333 SW., 1st Avenue) P.O. Box 2965, Portland, Oregon 97208.

Dated: February 17, 2006.
Robert D. DeViney, Jr.,
Branch of Lands and Minerals Resources

[FR Doc. E6-2887 Filed 2-28-06; 8:45 am]

BILLING CODE 4310-33-P